DEPARTMENT OF TRANSPORTATION

Federal Aviation Administration

Notice of Intent To Prepare an Environmental Impact Statement for the George Bush Intercontinental Airport, Houston, TX and To Conduct Public Scoping Meetings

AGENCY: Federal Aviation Administration (FAA), Department of Transportation (DOT).

ACTION: Notice of Intent to prepare an environmental impact statement (EIS) and to conduct public scoping meetings.

SUMMARY: The FAA is issuing this Notice of Intent to advise the public that the FAA will prepare an EIS under the provisions of the National Environmental Policy Act (NEPA) of 1969, as amended. The EIS will address proposed improvements to George Bush Intercontinental Airport (IAN). The Houston Airport System (HAS), the sponsor of the project, completed an Airport Master Plan (AMP) for IAN in 2006. The AMP showed that additional airfield capacity was needed. Airfield improvements including additional runway(s) were recommended to meet future capacity and reduce projected delays at IAH.

Based on analysis presented in the AMP, FAA concurred that additional capacity was needed to meet forecast demand and began the EIS process. One of the first tasks in the process was to update the aviation forecast because of the decline in aviation operations since the AMP was completed. An updated forecast of aircraft operations was completed and reconfirmed the need to provide for additional capacity at IAH.

The EIS will document the purpose and need for the proposed improvements as well as analyze a range of alternatives such as use of other modes of transportation or airports, construction of airfield improvements and as required by NEPA, the no action alternative. It is anticipated that the focus of the analysis will be on airfield improvement alternatives including: altering runway use and/or constructing taxiways; constructing a new runway between Runways 8L/26R and 8R/26L; and constructing a new runway south of Runway 9/27. To comply with NEPA, the FAA must also evaluate the potential environmental impacts of each of the reasonable alternatives such as and not limited to: noise impacts, impacts on air and water quality, wetlands, fish, wildlife, plants, floodplains, historic resources, hazardous wastes, socioeconomics, and economic factors.

FOR FURTHER INFORMATION CONTACT: Federal Aviation Administration, Airports Division, Attn: Paul Blackford, ASW-652B, 2601 Meacham Boulevard, Fort Worth, TX 76137, E-mail: pblackford.faa@iah-eis.org, Phone: 817-222-5607.

SUPPLEMENTARY INFORMATION: The purpose of this notice is to inform federal, state, and local government agencies and the public, of FAA's intent to prepare an EIS and to conduct a public and agency scoping process. Information, data, opinions, and comments obtained throughout the scoping process will be considered in the preparation of the draft EIS. The scoping process for this EIS will include a comment period for interested agencies and parties to submit oral and/or written comments representing the concerns and issues they believe the EIS should address.

Scoping Meetings: The purpose of the scoping meetings is to receive input from the public and agencies regarding the scope and process related to the EIS. Comments and suggestions are invited from all interested parties to ensure that issues and concerns related to the proposed action and its alternatives are addressed. Public and agency scoping meetings will be conducted to encourage submittal of comments to the FAA.

Public scoping meetings will be held from 6 to 9 p.m. on May 12, 2009, at the Humble Civic Center and May 14, 2009, at the Nimitz High School. Each meeting will include an introductory presentation, exhibits for team members to further explain the project and process, and opportunities to submit oral or written comments. To notify the general public of the scoping process, a legal notice will be placed in newspapers having general circulation in the study area. The newspaper notice will notify the public that scoping meetings will be held to gain public input concerning the proposed action, alternatives to be considered, and environmental impacts to be evaluated. The notice will also identify where the scoping package will be available for review.

An agency scoping meeting for all federal, state, and local regulatory agencies which have jurisdiction by law or have special expertise with respect to any potential environmental impacts associated with the proposed action will be held from 1:30 to 3:30 p.m. on May 12, 2009 at the Humble Civic Center. A notification letter along with a scoping package will be sent in advance of those meetings.

The Scoping Meetings provide the first major opportunity for gathering comments from agency representatives and the general public. Comments received at the meetings, or by mail, e-mail and via the Web site (http://www.iah-eis.org) by June 15, 2009, will be included in the Scoping Report and considered for inclusion in the EIS. The Final Scoping Report will be made available to the public on the Web site.

In addition to preparing the EIS to fulfill the requirements of NEPA, the FAA will prepare the EIS in order to comply with other applicable laws having public involvement requirements. Comments addressing other applicable laws should be submitted to the listed contact person. Further information about the EIS and the proposed action will be posted when available at http://www.iah-eis.org.

Issued in Fort Worth, Texas, on March 30, 2009.
Mike Nicely,
Acting Manager, Airports Division.

[FR Doc. E9-7693 Filed 4-8-09; 8:45 am]

BILLING CODE 4910-13-M